DEPARTMENT OF DEFENSE

Department of the Navy

Notice of Availability of Government-Owned Inventions; Available for Licensing

AGENCY: Department of the Navy, DoD.

ACTION: Notice.

SUMMARY: The inventions listed below are those in which the United States Government as represented by the Secretary of the Navy has an ownership interest and are made available for licensing by the Department of the Navy. U.S. Patent No. 7,679,410: A Method for Improving the Efficiency and Reliability of a Broadband Transistor Switch for Periodic Switching Applications Issued 3/16/2010//U.S. Patent No. 7,679,999: Marine Acoustic Sensor Assembly Issued 3/16/2010//U.S. Patent No. 7,685,862: Target System Giving Accuracy and Energy Issued 3/30/2010//U.S. Patent No. 7,690,309: Supercavitating Vehicle Control Issued 4/6/2010//U.S. Patent No. 7,691,798: Coating to Reduce Friction on Skis and Snow Boards Issued 4/6/2010//U.S. Patent No. 7,721,843: Visual Acoustic Device Issued 5/25/2010//U.S. Patent No. 7,734,755: Interactive Data Fault Localization System and Method Issued 6/8/2010//U.S. Patent No. 7,755,326: Battery Monitoring and Charging System Issued 7/13/2010//U.S. Patent No. 7,779,772: Submarine Short-Range Defense System Issued 8/24/2010//U.S. Patent No. 7,782,712: A Method to Estimate Local Towed Array Angles Using Flush Mounted Hot Film Wall Shear Sensors Issued 8/24/2010//U.S. Patent No. 7,800,978: Method for Real Time Matched Field Processing Issued 9/21/2010//U.S. Patent No. 7,802,474: Fiber Optic Laser Accelerometer Issued 9/28/2010//U.S. Patent Application Ser. No. 07/926115: Semi-Closed Brayton Cycle Power System Direct Combustion Heat Transfer Filed 8/7/1992//U.S. Patent No. 7,804,454: Active High Frequency Transmitter Antenna Assembly Issued 9/28/2010//U.S. Patent No. 7,832,998: Controlled Skin Formation for Foamed Extrudate Issued 11/16/2010//U.S. Patent No. 7,861,977: Adaptive Material Actuators for Coanda Effect Circulation Control Slots Issued 1/4/2011//U.S. Patent No. 7,865,836: Geospatial Prioritized Data Acquisition Analysis and Presentation Issued 1/4/2011//U.S. Patent No. 7,868,833: An Ultra Wideband Buoyant Cable Antenna Element Issued 1/11/2011//U.S. Patent No. 7,869,910: Autocatalytic Oscillators for Animal-Like Locomotion in Small Underwater Vehicles Issued 1/11/2011//U.S. Patent No. 7,878,873: Variable Orifice Propulsor Issued 2/1/2011//U.S. Patent No. 7,881,156: Method to Estimate Towed Array Angles Issued 2/1/2011//U.S. Patent No. 7,884,592: An Energy Efficient Method for Changing the Voltage of a DC Source to Another Voltage in Order to Supply a Load That Requires a Different Voltage Issued 2/8/2011//U.S. Patent No. 7,886,728: System and Method for Controlling the Power Output of an Internal Combustion Engine Issued 2/15/2011//U.S. Patent No. 7,906,340: Method for Quantitative Determination of Hydrogen Peroxide Using Potentiometric Titration Issued 3/15/2011//U.S. Patent No. 7,924,654: System for Beamforming Acoustic Buoy Fields Issued 4/12/2011//U.S. Patent No. 7,926,275: Closed Brayton Cycle Direct Contact Reactor/Storage Tank With Chemical Scrubber Issued 4/19/2011//U.S. Patent No. 7,926,276: Closed Cycle Brayton Propulsion System With Direct Heat Transfer Issued 4/19/2011//U.S. Patent No. 7,926,587: Explosive Water Jet With Precursor Bubble Issued 4/19/2011//U.S. Patent No. 7,929,375: Method and Apparatus for Improved Active Sonar Using Singular Value Decomposition Filtering Issued 4/19/2011//U.S. Patent No. 7,937,930: Semiclosed Brayton Cycle Power System With Direct Heat Transfer Issued 5/10/2011//U.S. Patent No. 7,938,077: Hydrogen Generator Apparatus for an Underwater Vehicle Issued 5/10/2011//U.S. Patent No. 7,940,602: Automatic Depth Sounder (Fathometer) Electronic Chart Comparator Issued 5/10/2011//U.S. Patent No. 7,951,339: Closed Brayton Cycle Direct Contact Reactor/Storage Tank With O2 Afterburner Issued 5/31/2011//U.S. Patent No. 7,952,530: Serpentine Buoyant Cable Antenna Issued 5/31/2011//U.S. Patent No. 7,954,442: Towed Array Deployment System for Unmanned Surface Vehicle Issued 6/7/2011//U.S. Patent No. 7,966,936: Telescoping Cavitator Issued 6/28/2011//U.S. Patent No. 7,975,614: Acoustic Shotgun System Issued 7/12/2011//U.S. Patent No. 7,985,924: Coaxial Transducer Issued 7/26/2011//U.S. Patent No. 8,006,619: Underwater Acoustic Tracer System Issued 8/30/2011.

FOR FURTHER INFORMATION CONTACT: Dr. Theresa A. Baus, Head, Technology Partnerships Office, Naval Undersea Warfare Center Division, Newport, 1176 Howell St., Newport, RI 02841-1703, telephone 401-832-8728, e-mail Theresa.baus@navy.mil.

Authority: 35 U.S.C. 207, 37 CFR Part 404.

Dated: September 20, 2011.
L.R. Almand,
Office of the Judge Advocate General, U.S. Navy, Alternate Federal Register Liaison Officer.

[FR Doc. 2011-24679 Filed 9-23-11; 8:45 am]

BILLING CODE 3810-FF-P